DEPARTMENT OF DEFENSE

Department of the Army

Notice of Availability of a Novel Diagnostic Fuze Technology for Exclusive, Partially Exclusive or Non-Exclusive Licenses

AGENCY: Department of the Army, DoD.

ACTION: Notice.

SUMMARY: The Department of the Army announces the general availability of exclusive, partially exclusive or non-exclusive licenses relative to a novel aeroballistic diagnostic system as described in U.S. Patent 6,349,652; entitled “Aeroballistic Diagnostic System”; Hepner; et al. Any license shall apply comply with 35 U.S.C. 209 and 37 CFR 404.

FOR FURTHER INFORMATION CONTACT: Michael D. Rausa, U.S. Army Research Laboratory, Office of Research and Technology Applications, ATTN: AMSRL-DP-AT/Bldg. 434, Aberdeen Proving Ground, MD 21005-5425, Telephone: (410) 278-5028.

SUPPLEMENTARY INFORMATION: None.

Brenda S. Bowen,
Army Federal Register Liaison Officer.

[FR Doc. 07-2260 Filed 5-7-07; 8:45 am]

BILLING CODE 3710-08-M